DEPARTMENT OF TRANSPORTATION

Pipeline and Hazardous Materials Safety Administration

Office of Hazardous Materials Safety; Notice of Applications for Modification of Exemption

AGENCY: Pipeline and Hazardous Materials Safety Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite the docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. Their applications have been separated from the new application for exemption to facilitate processing.

DATES: Comments must be received on or before August 1, 2005.

ADDRESSES: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of applications for modification of exemption is published in accordance with Part 107 of the Federal hazardous materials transportation law (49 U.S.C. 5117(b); 49 CFR 1.53(b)).

Issued in Washington, DC, on July 12, 2005.
R. Ryan Posten,
Exemptions Program Officer, Office of Hazardous Materials Exemptions & Approvals.

Modification Exemptions
Application No. | Docket No. | Applicant | Regulation(s) affected | Modification of Exemption | Nature of exemption thereof
11321-M |  | E.I. Du Pont, Wilmington, DE | 49 CFR 172.101, Column 7, Special Provisions B14, T38 | 11321 | To modify the exemption to authorize additional materials of construction and thickness requirements for the cargo and portable tanks transporting a Class 8 material.
11380-M |  | Baker Atlas (a division of Baker Hughes, Inc.), Houston, TX | 49 CFR 173.302a(a); 178.37 | 11380 | To modify the exemption to authorize a new tank assembly design of the non-DOT specification cylinders transporting Division 2.1 materials.
11917-M | RSPA-97-2741 | ITW Sexton, Decatur, AL | 49 CFR 173.304(a) | 11917 | To modify the exemption to authorize an increase in diameter of the non-DOT specification, non-refillable steel cyclinders for the transportation of Division 2.1 materials.
12929-M | RSPA-03-14412 | Matheson Tri-Gas, East Rutherford, NJ | 49 CFR 173.301(1) | 12929 | To modify the exemption to authorize the optional use of pressure relief devices on certain domestic shipments for the transportation of certain Division 2.3 materials.
13192-M | RSPA-03-14315 | Onyx Environmental Services, L.L.C., Flanders, NJ | 49 CFR 173.12(b) | 13192 | To modify the exemption to remove relief that is now provided in the Hazardous Materials Regulations and authorize higher quantity limits for segregation of certain hazardous materials.
13484-M | RSPA-04-17297 | Air Liquide Industrial U.S. LP (formerly: Air Liquide America L.P.), Houston, TX | 49 CFR 172.302(c); 177.834 | 13484 | To modify the exemption to authorize an increased inspection interval by a designated employee from 15 minutes to 1 hour for on-site loading operations of DOT Specification cargo tanks.
13977-M | RSPA-05-20129 | Aethra Aviation Technologies, Farmingdale, NY | 49 CFR 173.302a; 175.3 | 13977 | To reissue the exemption previously issued on an emergency basis for the transportation of a Division 2.2 and Class 9 material in certain cylinders that are charged in excess of their marked pressure used as components in aircraft.
14171-M | PHMSA-05-20832 | NASA, Houston, TX | 49 CFR 173.301(f) | 14171 | To reissue the exemption originally issued on an emergency basis for the transportation of a Division 2.2 material in non-DOT specification cylinders without pressure relief devices.
14193-M |  | Honeywell, Morristown, NJ | 49 CFR 173.313 | 14193 | To reissue the exemption originally issued on an emergency basis for the transportation of non-DOT specification IMO Type 5 portable tanks, mounted in an ISO frame, containing certain Division 2.2 and 2.3 materials.
14194-M | PHMSA-05-21246 | Zippo Manufacturing Corporation, Bradford, PA | 49 CFR 173.21, 173.24, 173.27, 173.308, 175.5, 175.10, 175.30, 175.33 | 14194 | To reissue the exemption originally issued on an emergency basis for the transportation of Zippo lighters in special travel containers in checked luggage on commercial passenger-carrying aircraft.

[FR Doc. 05-13953 Filed 7-14-05; 8:45 am]

BILLING CODE 4909-60-M